POSTAL SERVICE

39 CFR Part 111

New Mailing Standards for Domestic Mailing Services Products

AGENCY: Postal Service™.

ACTION: Proposed rule.

SUMMARY: On October 10, 2018, the Postal Service filed a notice of mailing services price adjustments with the Postal Regulatory Commission (PRC), effective January 27, 2019. This proposed rule contains the revisions to Mailing Standards of the United States Postal Service, Domestic Mail Manual (DMM®) that we would adopt to implement related regulatory changes coincident with the price adjustments.

DATES: Submit comments on or before November 16, 2018.

ADDRESSES: Mail or deliver written comments to the manager, Product Classification, U.S. Postal Service®, 475 L'Enfant Plaza SW, Room 4446, Washington, DC 20260-5015. You may inspect and photocopy all written comments, by appointment only, at USPS® Headquarters Library, 475 L'Enfant Plaza SW, 11th Floor North, Washington, DC, 20260. These records are available for review Monday through Friday, between the hours of 9 a.m. and 4 p.m., by calling 202-268-2906. Send email comments, including the name and address of the commenter, to ProductClassification@usps.gov, with a subject line of “January 2019 Domestic Mailing Services Proposal.” Faxed comments are not accepted.

FOR FURTHER INFORMATION CONTACT: Jacqueline Erwin at 202-268-2158, or Alexander Petr at 202-268-4116.

SUPPLEMENTARY INFORMATION: Proposed prices will be available under Docket No. R2019-1 on the PRC website at www.prc.gov.

The proposed rule includes changes to prices, mail classification updates, product simplification efforts, and a few minor revisions to the DMM.

Periodicals Address Corrections for Alternate Addressed Nonsubscriber-Nonrequester Copies

Currently, Periodicals publishers who mail alternate addressed nonsubscriber-nonrequester copies receive and pay for manual address corrections or Address Correction Service (ACS™). Undeliverable-as-addressed Periodicals do not receive forwarding service and are provided address-related notices via PS Form 3579, Notice of Undeliverable Periodical, or electronic ACS.

The Postal Service is proposing to introduce a specifically tailored Periodicals Service Type ID (STID) for publishers to include in the Intelligent Mail® barcode, (IMb®) along with authorized alternative addressing formats. If adopted, publishers will no longer receive address-related notices via PS Form 3579 or electronic ACS, if the address is vacant or not deliverable. Publications processed by the Postal Automated Redirection System, Computerized Forwarding System, or Remote Forwarding System will be discarded without notice to the publisher.

Correcting BRM/QBRM Postage Anomaly

Currently, postage for basic and high volume Business Reply Mail (BRM) is based on the applicable retail “metered” letter price. This has resulted in basic and high volume BRM customers paying lower postage prices than QBRM customers.

The Postal Service is proposing to correct the anomaly by applying the retail “stamped” letter price to basic and high volume BRM. To offset the postage increase, basic and high volume BRM per piece fees are proposed to decrease from the current prices.

Picture Permit Imprint Indicia

Currently, a picture permit imprint indicia may be used to pay postage and extra service fees on commercial mailings of full-service automation First-Class Mail® or USPS Marketing Mail® postcards, letters, or flats. Mailpieces bearing a picture permit imprint indicia must be prepared as IMb full-service automation mailings.

The Postal Service is proposing to eliminate the Full-Service requirement on commercial mailings of First-Class Mail or USPS Marketing Mail postcards, letters, or flats using picture permit imprint indicia.

Small Parcel Forwarding Fee

Currently, shippers do not have an ACS option for receiving forwarding of small parcels.

The Postal Service is proposing to add a “small parcel” forwarding fee for USPS Marketing Mail parcels, similar to the USPS Marketing Mail letter-size and flat-size pieces forwarding fees. The forwarding fee would only apply for pieces endorsed “Change Service Requested” under “Option 2” (ACS only), that are forwarded due to an active change-of-address. All other undeliverable pieces will be discarded and an electronic ACS notice is provided in both cases.

Overweight Item Charge

As discussed in the August 29, 2018, Federal Register final rule (83 FR 43985-43986), the Postal Service is introducing a charge for items identified in the postal network that exceed the 70 pound weight limit for Postal Service products, and are therefore nonmailable. Overweight items identified in the postal network will be assessed a $100 charge payable before release of the item, unless the item is picked up at the same facility where it was entered.

Although exempt from the notice and comment requirements of the Administrative Procedure Act (5 U.S.C. 553(b), (c)) regarding proposed rulemaking by 39 U.S.C. 410(a), the Postal Service invites public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

500 Additional Mailing Services

* * * * *

505 Return Services

1.0 Business Reply Mail (BRM)

1.1 BRM Postage and Fees

1.1.1 Basic BRM

[Revise the first sentence of the introductory text in 1.1.1 to read as follows:]

For basic BRM, a permit holder is required to pay an annual permit fee as provided under 1.2 and a per piece fee under 1.1.7 in addition to the applicable Retail First-Class Mail (stamped letters), First-Class Package Service — Retail, or Priority Mail postage for each returned piece.* * *

* * * * *

1.1.3 Basic Qualified BRM (QBRM)

[Revise the first sentence of the introductory text in 1.1.3 to read as follows:]

For basic qualified BRM, a permit holder is required to pay an account maintenance fee under 1.1.8, and a per piece fee under 1.1.7 in addition to the applicable retail letter or card First-Class Mail (stamped letters) postage for each returned piece.* * *

* * * * *

507 Mailer Services

1.0 Treatment of Mail

* * * * *

1.5 Treatment for Ancillary Services by Class of Mail

* * * * *

1.5.2 Periodicals

Undeliverable-as-addressed (UAA) Periodicals publications (including publications pending Periodicals authorization) are treated as described in Exhibit 1.5.2, with these additional conditions:

* * * * *

[Revise the text in items 1.5.2b and 1.5.2c to read as follows:]

b. Publications with an alternative addressing format under 602.3.0 are delivered to the address when possible. Forwarding service is not provided for such mail.

c. Address correction service is mandatory for all Periodicals publications, except when publishers use alternative addressing and an IMb with proper STID. An address correction service fee must be paid for each notice issued.

* * * * *

1.5.3 USPS Marketing Mail and Parcel Select Lightweight

* * * * *

Exhibit 1.5.3 Treatment of Undeliverable USPS Marketing Mail and Parcel Select Lightweight

Mailer Endorsement USPS Treatment of UAA Pieces

* * * * *

“Change Service Requested” 1, 4

* * * * *

[Revise the parenthetical for “Option 2” to read as follows:]

(Available via ACS only; for USPS Marketing Mail (all shapes) and Parcel Select Lightweight)

* * * * *

If change-of-address order on file:

[Revise the text under “If change-of-address order on file:” for “Months 1 through 12” to read as follows:]

Months 1 through 12: Piece forwarded; postage due charged to the mailer at applicable Forwarding Fee based on the piece shape for USPS Marketing Mail or Parcel Select Lightweight; separate notice of new address provided (electronic ACS fee charged).

* * * * *

600 Basic Standards For All Mailing Services

* * * * *

602 Addressing

* * * * *

3.0 Use of Alternative Addressing

3.1 General Information

* * * * *

3.1.3 Treatment

[Revise the third sentence of the introductory text in 3.1.3 to read as follows:]

* * * Periodicals publishers are notified when a mailpiece with an occupant or exceptional address format is undeliverable for solely address-related reasons, (except publishers using an IMb with proper STID on non-subscriber or non-requester copies under 207.7.0.* * *

* * * * *

604 Postage Payment Methods and Refunds

* * * * *

5.0 Permit Imprint (Indicia)

* * * * *

5.4 Picture Permit Imprint Indicia

5.4.1 Description

[Revise the third sentence of 5.4.1 to read as follows:]

* * * Picture permit imprints may be used to pay postage and extra service fees on commercial mailings of First-Class Mail or USPS Marketing Mail postcards, letters, or flats.

* * * * *

5.4.5 Picture Permit Imprint Indicia Format

As options to the basic format under 5.3.11and if all other applicable standards in 5.0 are met, permit imprint indicia may be prepared in picture permit imprint format subject to these conditions:

* * * * *

[Delete 5.4.5f in its entirety and renumber current 5.4.5g through 5.4.5k as new 5.4.5f through 5.4.5j.]

* * * * *

We will publish an appropriate amendment to 39 CFR part 111 to reflect these changes.

Ruth B. Stevenson
Attorney, Federal Compliance.

[FR Doc. 2018-22475 Filed 10-16-18; 8:45 am]

BILLING CODE 7710-12-P